DEPARTMENT OF COMMERCE

International Trade Administration

[A-570-803]

Heavy Forged Hand Tools From the People's Republic of China; Announcement of Correction to the Notice of Amended Final Results of Antidumping Duty Administrative Reviews

AGENCY: Import Administration, International Trade Administration, Department of Commerce.

ACTION: Correction to the Notice of Amended Final Results of Administrative Reviews.

SUMMARY: On August 18, 2000, the Department of Commerce (“the Department”) published its amended final results of the February 1, 1998 through January 31, 1999 administrative reviews of the antidumping duty orders on heavy forged hand tools from the People's Republic of China (see 65 FR 50499). In the notice of the amended final results, the Department incorrectly noted that the memorandum concerning the clerical error allegation is to Troy H. Cribb from Holly A. Kuga. The memorandum is to Tom F. Futtner from Ronald M. Trentham.

FOR FURTHER INFORMATION CONTACT: Howard Smith, AD/CVD Enforcement Group II, Office IV, Import Administration, International Trade Administration, U.S. Department of Commerce, 14th Street and Constitution Avenue, NW., Washington, DC 20230; telephone (202) 482-5193.

Dated: September 11, 2000.
Holly A. Kuga,
Acting Deputy Assistant Secretary for Import Administration.

[FR Doc. 00-23902 Filed 9-15-00; 8:45 am]

BILLING CODE 3510-DS-M